DEPARTMENT OF TRANSPORTATION

Federal Aviation Administration

14 CFR Part 39

[Docket No. 2001-NM-109-AD]

RIN 2120-AA64

Airworthiness Directives; Bombardier Model DHC-8-102, -103, and -106 Airplanes; Model DHC-8-201 and -202 Airplanes; and Model DHC-8-301, -311, and -315 Airplanes

AGENCY: Federal Aviation Administration, DOT.

ACTION: Notice of proposed rulemaking (NPRM).

SUMMARY: This document proposes the adoption of a new airworthiness directive (AD) that is applicable to certain Bombardier airplanes. This proposal would require replacement of the elevator stop bumpers of the horizontal stabilizer with new bumpers. This action is necessary to prevent damage to the elevator trailing edge due to a broken or missing elevator stop bumper, which could result in jamming of the spring tab and consequent reduced controllability of the airplane. This action is intended to address the identified unsafe condition.

DATES: Comments must be received by January 2, 2003.

ADDRESSES: Submit comments in triplicate to the Federal Aviation Administration (FAA), Transport Airplane Directorate, ANM-114, Attention: Rules Docket No. 2001-NM-109-AD, 1601 Lind Avenue, SW., Renton, Washington 98055-4056. Comments may be inspected at this location between 9 a.m. and 3 p.m., Monday through Friday, except Federal holidays. Comments may be submitted via fax to (425) 227-1232. Comments may also be sent via the Internet using the following address: 9-anm-nprmcomment@faa.gov. Comments sent via fax or the Internet must contain “Docket No. 2001-NM-109-AD” in the subject line and need not be submitted in triplicate. Comments sent via the Internet as attached electronic files must be formatted in Microsoft Word 97 for Windows or ASCII text.

The service information referenced in the proposed rule may be obtained from Bombardier, Inc., Bombardier Regional Aircraft Division, 123 Garratt Boulevard, Downsview, Ontario M3K 1Y5, Canada. This information may be examined at the Federal Aviation Administration (FAA), Transport Airplane Directorate, Rules Docket, 1601 Lind Avenue, SW., Renton, Washington; or at the FAA, New York Aircraft Certification Office, 10 Fifth Street, Third Floor, Valley Stream, New York 11581.

FOR FURTHER INFORMATION CONTACT: Serge Napoleon, Aerospace Engineer, Airframe and Propulsion Branch, ANE-171, FAA, New York Aircraft Certification Office, 10 Fifth Street, Third Floor, Valley Stream, New York 11581; telephone (516) 256-7512; fax (516) 568-2716.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this action may be changed in light of the comments received.

Submit comments using the following format:

• Organize comments issue-by-issue. For example, discuss a request to change the compliance time and a request to change the service bulletin reference as two separate issues.

• For each issue, state what specific change to the proposed AD is being requested.

• Include justification (e.g., reasons or data) for each request.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this action must submit a self-addressed, stamped postcard on which the following statement is made: “Comments to Docket Number 2001-NM-109-AD.” The postcard will be date stamped and returned to the commenter.

Availability of NPRMs

Any person may obtain a copy of this NPRM by submitting a request to the FAA, Transport Airplane Directorate, ANM-114, Attention: Rules Docket No. 2001-NM-109-AD, 1601 Lind Avenue, SW., Renton, Washington 98055-4056.

Discussion

The FAA has received a report indicating that an elevator trim problem was detected on a Model DHC-8-100 series airplane due to a broken or missing elevator stop bumper. Investigation revealed that the damaged elevator was bent into the elevator spring tab, which resulted in the trim problem. Further investigation revealed that a broken or missing elevator stop bumper could lead to elevator over-travel and damage to the elevator trailing edge if the elevator impacts the top portion of the rudder. The damaged elevator could then cause the spring tab to jam.

As a result of these findings, we informed Transport Canada Civil Aviation (TCCA), which is the airworthiness authority for Canada, that an unsafe condition may exist on Bombardier Model DHC-8 series airplanes. The subject components on certain Bombardier Model DHC-8-200 and -300 series airplanes are identical to those on the affected Model DHC-8-100 series airplane. Therefore, all of these airplanes may be subject to the same unsafe condition.

Explanation of Relevant Service Information

Bombardier has issued service information that describes procedures for replacing the left and right upper and lower elevator stop bumpers. The following table lists the service information for the specified airplane models:

Table—Service Information
Model DHC-8 series airplanes— | Product support manuals (PSMs)— | de Havilland Inc. Temporary Revisions (TRs), Task Nos. 2730/22, all dated November 6, 2000, of the Airworthiness Limitations Lists (AWLs) of the DHC-8 Maintenance Program Manual—
−100 | PSM 1-8-7 | TR AWL-77
−200 | PSM 1-82-7 | TR AWL 2-20
−300 | PSM 1-83-7 | TR AWL 3-84

Accomplishment of the actions specified in the service information is intended to adequately address the identified unsafe condition.

TCCA classified this service information as mandatory and issued Canadian airworthiness directive CF-2001-08, dated February 7, 2001, in order to assure the continued airworthiness of these airplanes in Canada.

FAA's Conclusions

These airplane models are manufactured in Canada and are type certificated for operation in the United States under the provisions of section 21.29 of the Federal Aviation Regulations (14 CFR 21.29) and the applicable bilateral airworthiness agreement. Pursuant to this bilateral airworthiness agreement, TCCA has kept the FAA informed of the situation described previously. The FAA has examined the findings of TCCA, reviewed all available information, and determined that AD action is necessary for products of this type design that are certificated for operation in the United States.

Explanation of Requirements of Proposed Rule

Since an unsafe condition has been identified that is likely to exist or develop on other airplanes of the same type design registered in the United States, the proposed AD would require accomplishment of the actions specified in the service information described previously, except as discussed below.

Differences Between the Proposed Rule and Canadian AD/Service Information

Operators should note the following differences:

• Although the Canadian airworthiness directive includes Bombardier Model DHC-8-314 airplanes, the applicability of this proposed rule does not include that airplane model, because it is not included on the most recent type certificate data sheet for the affected models. In addition, TCCA has confirmed that Model DHC-8-314 airplanes are not certified for operation in the United States.

• The Canadian airworthiness directive only specifies “replacing” the elevator stop bumpers, and the procedures in the previously referenced TRs only specify “discarding” the bumpers. However, we have determined that it is necessary for this proposed rule to require replacement of the elevator stop bumpers with new bumpers. After contacting TCCA regarding this, they have agreed that it is appropriate to specify replacement with a new bumper, provided that it has the same part number as the existing bumper. Paragraph (a) of this proposed rule specifies such replacement action.

Interim Action

This is considered to be interim action until final action is identified, at which time the FAA may consider further rulemaking.

Cost Impact

The FAA estimates that 195 Bombardier Model DHC-8-102, -103, and -106 airplanes; Model DHC-8-201 and -202 airplanes; and Model DHC-8-301, -311, and -315 airplanes; of U.S. registry would be affected by this proposed AD, that it would take approximately 2 work hours per airplane to accomplish the proposed actions, and that the average labor rate is $60 per work hour. Based on these figures, the cost impact of the proposed AD on U.S. operators is estimated to be $23,400, or $120 per airplane.

The cost impact figure discussed above is based on assumptions that no operator has yet accomplished any of the proposed requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Bombardier, Inc. (Formerly de Havilland, Inc.): Docket 2001-NM-109-AD.

Applicability: Model DHC-8-102, -103, -106, -201, -202, -301, -311, and -315 airplanes; certificated in any category; serial numbers 003 and subsequent.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent damage to the elevator trailing edge due to a broken or missing elevator stop bumper, which could result in jamming of the spring tab and consequent reduced controllability of the airplane, accomplish the following:

Replacement

(a) At the time specified in paragraph (a)(1) or (a)(2) of this AD, as applicable, and thereafter at intervals not to exceed 12,000 flight hours or 5 years since the last replacement, whichever occurs earlier, replace the left and right upper and lower elevator stop bumpers of the horizontal stabilizer with new bumpers having the same part numbers as the existing bumpers, per the applicable service information listed in the following table:

Table—Bombardier Service Information
Model DHC-8 series airplaines— | Product support manuals (PSMs)— | de Havilland Inc. temporary revisions (TRs), task Nos. 2730/22, all dated November 6, 2000, of the airplanes limitations lists (AWLs) of the DHC-8 maintenance program manual—
-100 | PSM 1-8-7 | TR AWL-77
-200 | PSM 1-82-7 | TR AWL 2-20
-300 | PSM 1-83-7 | TR AWL 3-84

(1) For airplanes that have accumulated 11,000 total flight hours or fewer as of the effective date of this AD: Prior to the accumulation of 12,000 total flight hours or within 5 years after the effective date of this AD, whichever occurs earlier.

(2) For airplanes that have accumulated more than 11,000 total flight hours as of the effective date of this AD: Within 1,000 flight hours or 6 months after the effective date of this AD, whichever occurs earlier.

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(c) Special flight permits may be issued in accordance with sections 21.197 and 21.199 of the Federal Aviation Regulations (14 CFR 21.197 and 21.199) to operate the airplane to a location where the requirements of this AD can be accomplished.

Note 3: The subject of this AD is addressed in Canadian airworthiness directive CF-2001-08, dated February 7, 2001.

Issued in Renton, Washington, on November 20, 2002.
Ali Bahrami,
Acting Manager, Transport Airplane Directorate, Aircraft Certification Service.

[FR Doc. 02-30347 Filed 11-29-02; 8:45 am]

BILLING CODE 4910-13-P